ENVIRONMENTAL PROTECTION AGENCY

40 CFR Part 52

[EPA-R07-OAR-2024-0224; FRL-11566-04-R7]

Disapproval and Promulgation of Air Quality Implementation Plan; Nebraska; Regional Haze State Implementation Plan; Federal Implementation Plan for Regional Haze; Completion of Remand; Extension of Comment Period

AGENCY: Environmental Protection Agency (EPA).

ACTION: Proposed rule; extension of comment period.

SUMMARY: The Environmental Protection Agency (EPA) is extending the comment period for a proposed rule that published August 1, 2024. The current comment period for the proposed rule was set to end on September 30, 2024. In response to a request from a commenter, the EPA is extending the comment period for the proposed action to October 30, 2024.

DATES: The comment period for the proposed rule published on August 1, 2024, at 89 FR 62691 is extended. Comments must be received on or before October 30, 2024.

ADDRESSES: You may send comments, identified by Docket ID No. EPA-R07-OAR-2024-0224 to https://www.regulations.gov. Follow the online instructions for submitting comments.

Instructions: All submissions received must include the Docket ID No. for this rulemaking. Comments received will be posted without change to https://www.regulations.gov, including any personal information provided. For detailed instructions on sending comments and additional information on the rulemaking process, see the proposed rulemaking (89 FR 62691, August 1, 2024) and the “How to Comment” section of our web page https://www.epa.gov/ne/state-nebraska.

FOR FURTHER INFORMATION CONTACT: Jed D. Wolkins, Environmental Protection Agency, Region 7 Office, Air and Radiation Division, 11201 Renner Boulevard, Lenexa, Kansas 66219; telephone number: (913) 551-7588; email address: wolkins.jed@epa.gov.

SUPPLEMENTARY INFORMATION: On August 1, 2024, the EPA published the proposed rule “Disapproval and Promulgation of Air Quality Implementation Plan; Nebraska; Regional Haze State Implementation Plan; Federal Implementation Plan for Regional Haze; Completion of Remand” in the Federal Register (89 FR 62691). The original deadline to submit comments was September 30, 2024. This action extends the comment period for 30 days in response to requests from commenters. Written comments must now be received by October 30, 2024.

Dated: September 18, 2024.
Cecilia Tapia,
Acting Deputy Regional Administrator, Region 7.

[FR Doc. 2024-21810 Filed 9-23-24; 8:45 am]

BILLING CODE 6560-50-P